DEPARTMENT OF THE INTERIOR

Office of the Secretary

Proposed Renewal of Information Collection: American Customer Satisfaction Index (ACSI) Government Customer Satisfaction Survey

AGENCY: National Business Center, Federal Consulting Group, Interior.

ACTION: Notice and request for comments.

SUMMARY: The Department of the Interior, as part of its continuing effort to reduce paperwork and respondent burden, invites the general public and other Federal agencies to take this opportunity to comment on proposed and/or continuing information collections, as required by the Paperwork Reduction Act of 1995, Public Law 104-13 (44 U.S.C. 3506(c)(2)(A)). Currently, the Federal Consulting Group within the Department of the Interior is soliciting comments concerning the American Customer Satisfaction Index (ACSI) Government Customer Satisfaction Survey.

DATES: Consideration will be given to all comments received by April 30, 2012.

ADDRESSES: Written comments may be submitted to the Federal Consulting Group, Attention: Rick Tate, 1849 C St. NW., MS 314, Washington, DC 20240-0001. Comments may also be sent by facsimile to (202) 513-7686, or via email to Richard_Tate@nbc.gov. Individuals providing comments should reference Customer Satisfaction Surveys.

FOR FURTHER INFORMATION CONTACT: To request additional information or copies of the form(s) and instructions, please write to the Federal Consulting Group, Attention: Rick Tate, 1849 C St. NW., MS 314, Washington, DC 20240-0001, or call him on (202) 513-7655, or send an email to Richard_Tate@nbc.gov.

SUPPLEMENTARY INFORMATION:

Title: American Customer Satisfaction Index (ACSI) Government Customer Satisfaction Survey.

OMB Control Number: 1090-0007.

Abstract

The proposed renewal of this information collection activity provides a means to consistently assess, benchmark and improve customer satisfaction with Federal government agency programs and/or services within the Executive Branch. The Federal Consulting Group of the Department of the Interior serves as the executive agent for this methodology and has partnered with the CFI Group and the ACSI organization to offer the methodology to Federal government agencies.

The CFI Group, a leader in customer satisfaction and customer experience management, offers a comprehensive model that quantifies the effects of quality improvements on citizen satisfaction. The CFI Group has developed the methodology and licenses it to the ACSI organization which produces the American Customer Satisfaction Index (ACSI) for different economic sectors and as an annual benchmark for customer service in the U.S. Government. The ACSI was introduced in 1994 by Professor Claes Fornell under the auspices of the University of Michigan, the American Society for Quality (ASQ), and the CFI Group. In 2008, the ACSI became an independent organization that continues to monitor and benchmark customer satisfaction across more than 200 companies and many U.S. Federal agencies.

The ACSI is the only cross-agency methodology for obtaining comparable measures of customer satisfaction with Federal government programs and/or services. Along with other economic objectives—such as employment and growth—the quality of output (goods and services) is a part of measuring living standards. The ACSI's ultimate purpose is to help improve the quality of goods and services available to American citizens.

ACSI surveys conducted by the Federal Consulting Group are completely subject to the Privacy Act 1074, Public Law 93-579, December 31, 1974 (5 U.S.C. 522a). The agency information collection is an integral part of conducting an ACSI survey. The contractor will not be authorized to release any agency information upon completion of the survey without first obtaining permission from the Federal Consulting Group and the participating agency. In no case shall any new system of records containing privacy information be developed by the Federal Consulting Group, participating agencies, or the contractor collecting the data. In addition, participating Federal agencies may only provide information used to randomly select respondents from among established systems of records provided for such routine uses.

There is no other agency or organization which is able to provide the information that is accessible through the surveying approach used in this information collection. Further, the information will enable Federal agencies to determine customer satisfaction metrics with discrimination capability across variables. Thus, this information collection will assist Federal agencies in improving their customer service in a targeted manner which will make best use of resources to improve service to the public.

This survey asks no questions of a sensitive nature, such as sexual behavior and attitudes, religious beliefs, and other matters that are commonly considered private.

Current Actions: Proposed renewal of collection of information.

Type of Review: Renewal.

Affected Public: Individuals and Households, Businesses and Organizations, State, Local or Tribal Government.

Estimated Number of Respondents: Participation by Federal agencies in the ACSI is expected to vary as new customer segment measures are added or deleted. However, based on historical records, projected average estimates for the next three years are as follows:

Average Expected Annual Number of Customer Satisfaction Surveys: 125.

Respondents: 43,750.

Annual responses: 43,750.

Frequency of Response: Once per survey.

Average minutes per response: 12.0.

Burden hours: 8,750 hours.

Note: It is expected that the first year there will be approximately 100 surveys submitted, the second year 125 surveys submitted, and the third year 150 surveys submitted due to expected growth in the program. The figures above represent an expected average per year over the three-year period.

Request for Comments: Comments submitted in response to this notice will be summarized and/or included in the request for OMB approval. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

All written comments will be available for public inspection by appointment with the Federal Consulting Group at the contact information given in the Addresses section. The comments, with names and addresses, will be available for public view during regular business hours. If you wish us to withhold your personal information, you must prominently state at the beginning of your comment what personal information you want us to withhold. We will honor your request to extent allowable by law.

An agency may not conduct or sponsor, and a person is not required to respond to, a collection of information unless it displays a currently valid Office of Management and Budget control number.

Ron Oberbillig,
Chief Operating Officer, Federal Consulting Group.

[FR Doc. 2012-4631 Filed 2-27-12; 8:45 am]

BILLING CODE 4310-RK-P